DEPARTMENT OF ENERGY

Data Privacy and the Smart Grid: A Voluntary Code of Conduct

AGENCY: Office of Electricity Delivery and Energy Reliability, Department of Energy.

ACTION: Request for public comment.

SUMMARY: The Department of Energy (DOE) invites public comment on a draft Voluntary Code of Conduct that addresses data privacy surrounding smart grid technologies. The document is available for a 30 day comment period at https://www.smartgrid.gov/sites/default/files/VCC_principles_2014_08_12_final_draft.pdf.

DATES: Comments must be received on or before October 14, 2014.

ADDRESSES: Written comments may be submitted to Eric Lightner, Director, Federal Smart Grid Task Force, Office of Electricity Delivery and Energy Reliability, U.S. Department of Energy, 1000 Independence Avenue SW., Washington, DC 20585; Email: VCC-Privacy@hq.doe.gov.

FOR FURTHER INFORMATION CONTACT: Requests for additional information should be directed to Eric Lightner, Director, Federal Smart Grid Task Force, Office of Electricity Delivery and Energy Reliability, U. S. Department of Energy, 1000 Independence Avenue, SW., Washington, DC 20585 at VCC-Privacy@hq.doe.gov.

SUPPLEMENTARY INFORMATION: On January 31, 2012, U.S. Department of Energy, Office of Electricity Delivery and Energy Reliability (DOE OE) hosted the Smart Grid Privacy Workshop to facilitate a dialog among key industry stakeholders. In addition, on February 23, 2012, the White House released the report, Consumer Data Privacy in a Networked World: A Framework for Protecting Privacy and Promoting Innovation in the Global Digital Economy (Privacy Blueprint). The Privacy Blueprint outlines a multi-stakeholder process for developing legally enforceable voluntary codes of conduct to help instill consumer confidence.

In response to workshop findings and in support of the Privacy Blueprint, DOE OE and the Federal Smart Grid Task Force have facilitated a multi-stakeholder process to develop a Voluntary Code of Conduct (VCC) for utilities and third parties providing consumer energy use services. The resulting draft VCC addresses privacy issues as they relate to data enabled by smart grid technologies.

The DOE, through a notice published in Federal Register on February 11, 2013 (78 FR 9678), requested energy industry stakeholders to participate in the VCC multi-stakeholder process by attending open meetings and participating in work group activities to draft the VCC principles. The draft VCC, which is now available for public comment, is a result of those meetings and work groups over the past 18 months. The primary goal of the VCC is to provide principles of conduct for voluntary adoption by energy utilities and third parties.

Authority: Energy Independence and Security Act of 2007, Title XIII.

Issued at Washington, DC, on September 8, 2014.
Patricia A. Hoffman,
Assistant Secretary, Electricity Delivery and Energy Reliability.

[FR Doc. 2014-21838 Filed 9-11-14; 8:45 am]

BILLING CODE 6450-01-P